DEPARTMENT OF ENERGY

Federal Energy Regulatory Commission

Combined Notice of Filings #1

Take notice that the Commission received the following electric rate filings:

Docket Numbers: ER11-1881-008; ER11-1882-008; ER11-1883-008; ER11-1885-008; ER11-1886-008; ER11-1887-008; ER11-1889-008; ER11-1890-008; ER11-1892-008; ER11-1893-008; ER11-1894-008.

Applicants: Burley Butte Wind Park, LLC, Golden Valley Wind Park, LLC, Milner Dam Wind Park, LLC, Oregon Trail Wind Park, LLC, Pilgrim Stage Station Wind Park, LLC, Thousand Springs Wind Park, LLC, Tuana Gulch Wind Park, LLC, Camp Reed Wind Park, LLC, Payne's Ferry Wind Park, LLC, Salmon Falls Wind Park, LLC, Yahoo Creek Wind Park, LLC.

Description: Notice of Change in Status of Burley Butte Wind Park, LLC, et al.

Filed Date: 7/24/17.

Accession Number: 20170724-5160.

Comments Due: 5 p.m. ET 8/14/17.

Docket Numbers: ER17-2140-000.

Applicants: Pacific Gas and Electric Company.

Description: § 205(d) Rate Filing: Revisions to the Unexecuted LGIA with Regents of the UC (SA 344) to be effective 7/27/2017.

Filed Date: 7/25/17.

Accession Number: 20170725-5037.

Comments Due: 5 p.m. ET 8/15/17.

Docket Numbers: ER17-2141-000.

Applicants: Great Valley Solar 1, LLC.

Description: Baseline eTariff Filing: Great Valley Solar 1, LLC Petition for Order Accepting Market-based Rate Tariff to be effective 10/1/2017.

Filed Date: 7/25/17.

Accession Number: 20170725-5049.

Comments Due: 5 p.m. ET 8/15/17.

Docket Numbers: ER17-2142-000.

Applicants: Great Valley Solar 2, LLC.

Description: Baseline eTariff Filing: Great Valley Solar 2, LLC Petition for Order Accepting Market-based Rate Tariff to be effective 10/1/2017.

Filed Date: 7/25/17.

Accession Number: 20170725-5054.

Comments Due: 5 p.m. ET 8/15/17.

Docket Numbers: ER17-2143-000.

Applicants: Cayuga Operating Company, LLC.

Description: § 205(d) Rate Filing: Tariff Revisions re 819 AS etc to be effective 7/26/2017.

Filed Date: 7/25/17.

Accession Number: 20170725-5075.

Comments Due: 5 p.m. ET 8/15/17.

Docket Numbers: ER17-2144-000.

Applicants: Somerset Operating Company, LLC.

Description: § 205(d) Rate Filing: Tariff Revision re 819 AS etc to be effective 7/26/2017.

Filed Date: 7/25/17.

Accession Number: 20170725-5079.

Comments Due: 5 p.m. ET 8/15/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 25, 2017.
Nathaniel J. Davis, Sr.,
Deputy Secretary.

[FR Doc. 2017-16119 Filed 7-31-17; 8:45 am]

BILLING CODE 6717-01-P